DEPARTMENT OF ENERGY

Agency Information Collection; Correction

AGENCY: U.S. Department of Energy.

ACTION: Notice and request for comments; correction.

SUMMARY: The Department of Energy (DOE) published a document in the Federal Register of August 24, 2012, announcing the submission of an information request to the OMB for the Foreign Travel Management System (FTMS). This document corrects an error in that notice.

FOR FURTHER INFORMATION CONTACT: Requests for additional information or copies of the information collection instrument and instructions should be directed to Umeki Thorne at umeki.thorne@hq.doe.gov.

Correction

In the Federal Register of August 24, 2012, in FR Doc No: 2012-20840 (77 FR 51530), on page 51530, under SUPPLEMENTARY INFORMATION, in the second column, correct the last paragraph beginning at “(4)” to read as follows:

(4) Estimated Annual number of 2,230.

(5) Estimated Annual number of Burden Hours of 5,389.

(6) Estimated Annual Cost Burden: $450,000.

Statutory Authority: DOE O 551.1D, “Official Foreign Travel,” dated April 2, 2012.

Issued in Washington, DC on August 27, 2012.
Julie Squires,
Staff Advisor, Office of Management, Office of International Travel and Exchange Visitor Programs.

[FR Doc. 2012-21802 Filed 9-4-12; 8:45 am]

BILLING CODE 6450-01-P